DEPARTMENT OF LABOR

Employment and Training Administration

[TA-W-81,387]

Eastman Kodak Company, IPS—Dayton Location, Dayton, OH; Notice of Affirmative Determination Regarding Application for Reconsideration

On its own motion, the Department of Labor will conduct an administrative reconsideration of the negative determination regarding workers' eligibility to apply for Trade Adjustment Assistance (TAA) applicable to workers and former workers of Eastman Kodak Company, IPS-Dayton Location, Dayton, Ohio (subject firm). The Department's Notice of negative determination was published in the Federal Register on June 6, 2012 (77 FR 33494). The workers are engaged in employment related to the production of commercial color ink jet printers.

The initial investigation resulted in a denial based on the findings that there was no shift in production of commercial color ink jet printers to a foreign country; that there were no company or customer imports of articles like or directly competitive with the commercial color ink jet printers produced by the subject firm; that the subject firm are neither suppliers to nor downstream producers for a firm that employed a worker group eligible to apply for TAA; and that the subject firm was not named by the International Trade Commission, as required by Section 222(e) of the Trade Act of 1974, as amended.

Conclusion

The Department has carefully reviewed the existing record, and will conduct further investigation to determine if the workers meet the eligibility requirements of the Trade Act of 1974, as amended.

Signed at Washington, DC, this 1st day of August, 2012.
Del Min Amy Chen,
Certifying Officer, Office of Trade Adjustment Assistance.

[FR Doc. 2012-19912 Filed 8-13-12; 8:45 am]

BILLING CODE 4510-FN-P